CONSUMER PRODUCT SAFETY COMMISSION

Sunshine Notice; Meeting

AGENCY: Consumer Product Safety Commission.

TIME AND DATE: Wednesday, June 7, 2000, 2:00 p.m.

LOCATION: Room 420, East West Towers, 4330 East West Highway, Bethesda, Maryland.

STATUS: Open to the Public.

Matter to be Considered: Oral Drugs Switched From Prescription to Over-the-Counter (OTC) Status

The staff will brief the Commission on the staff's recommendation to propose that child-resistant packaging requirements for oral prescription drugs continue when such drugs are granted over-the-counter (OTC) status by the Food and Drug Administration.

For a recorded message containing the latest agenda information, call (301) 504-0709.

CONTACT PERSON FOR ADDITIONAL INFORMATION: Sadye E. Dunn, Office of the Secretary, 4330 East West Highway, Bethesda, MD 20207 (301) 504-0800.

Dated: May 31, 2000.
Sadye E. Dunn,
Secretary.

[FR Doc. 00-14168 Filed 6-1-00; 2:35 pm]

BILLING CODE 6355-01-M